DEPARTMENT OF COMMERCE

National Oceanic and Atmospheric Administration

RIN 0648-XH71

Marine Mammals; File No. 540-1811

AGENCY: National Marine Fisheries Service (NMFS), National Oceanic and Atmospheric Administration (NOAA), Commerce.

ACTION: Notice; receipt of application for amendment.

SUMMARY: Notice is hereby given that Mr. John Calambokidis, Cascadia Research Collective, Waterstreet Building, 218 1/2 West Fourth Avenue, Olympia, WA 89501, has requested an amendment to scientific research Permit No. 540-1811.

DATES: Written, telefaxed, or e-mail comments must be received on or before June 6, 2008.

ADDRESSES: The amendment request and related documents are available for review upon written request or by appointment: (See SUPPLEMENTARY INFORMATION).

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 731-1774.

FOR FURTHER INFORMATION CONTACT: Jennifer Skidmore or Carrie Hubard, (301)713-2289.

SUPPLEMENTARY INFORMATION: The subject amendment to Permit No. 540-1811, issued on March 31, 2006, and most recently amended on June 16, 2006, is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the Regulations Governing the Taking, Importing, and Exporting of Endangered and Threatened Species (50 CFR 222-226).

Permit No. 540-1811, issued to John Calambokidis, currently authorizes aerial and vessel surveys, photo-identification, behavioral observations, tagging (using suction-cup attached tags), biopsy, video and acoustic recording, and incidental harassment of all species of odontocetes and baleen whales in the North Pacific Ocean. The purpose of the modification is to enhance the examination of movements (for stock structure assessment) and habitat use of: blue (Balaenoptera musculus), fin (B. physalus), sei (B.a borealis), gray (Eschrichtius robustus), sperm (Physeter macrocephalus), Bryde's (B. edeni), humpback (Megaptera novaeangliae) and minke (B. acutorostrata) whales, Mesoplodon beaked whales (Mesoplodon spp), Cuvier's (Ziphius cavirostris) and Baird's (Berardius bairdii) beaked whales, and bottlenose (Tursiops truncatus) and Risso's (Grampus griseus) dolphins via dart tagging. For each species, an addition of 20 takes by dart tagging are requested, with the exception of sei whales, where only 5 takes are requested. Additionally, an increase in the number of biopsy and suction-cup tagging takes (between 10 - 40 takes) for several cetacean species (fin, sperm, and short-finned pilot whales (Globicephala macrorhynchus) and Baird's, Cuvier's, and Mesoplodon beaked whales) are being requested in order to better increase understanding of stock structure and behavior. Takes by Level B harassment (e.g., incidental harassment of non-target animals) are already authorized under Permit No. 540-1811 and no additional Level B harassment takes are requested. Dart tagging will occur concurrently with already permitted activities (i.e., vessel surveys, photo-identification, suction-cup tagging etc), primarily in Californian waters, though some species may be tagged opportunistically elsewhere where activities are authorized (i.e., U.S. and international waters of the Pacific including Alaska, Washington, Oregon, and other U.S. territories). The amended permit, if issued, would be valid until the permit expires on April 14, 2011.

Concurrent with the publication of this notice in the Federal Register, NMFS is forwarding copies of this application to the Marine Mammal Commission and its Committee of Scientific Advisors.

Documents may be reviewed in the following locations:

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249; and

Southwest Region, NMFS, 501 West Ocean Blvd., Suite 4200, Long Beach, CA 90802-4213; phone (562)980-4001; fax (562)980-4018.

Dated: May 1, 2008.
P. Michael Payne,
Chief, Permits, Conservation and Education Division, Office of Protected Resources, National Marine Fisheries Service.

[FR Doc. E8-10104 Filed 5-6-08; 8:45 am]

BILLING CODE 3510-22-S